DEPARTMENT OF TRANSPORTATION

Federal Aviation Administration

Applicability of National Environmental Policy Act (NEPA) to Federal Aviation Administration (FAA) Review of Airport Wildlife Hazard Management Plans

AGENCY: Federal Aviation Administration (FAA), DOT.

ACTION: Notice and request for comments, extension of comment period.

SUMMARY: FAA is extending the comment period on a Notice published in the Federal Register of October 19, 2016, entitled “Applicability of National Environmental Policy Act (NEPA) to Federal Aviation Administration (FAA) Review of Airport Wildlife Hazard Management Plans.” In that notice, the FAA requested comments be received by November 18, 2016.

DATES: The comment period for the Notice published October 19, 2016 (81 FR 72145), is extended until January 17, 2017.

ADDRESSES: Send comments identified by docket number to FAA-2016-9284 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: The FAA will post all comments it receives, without change, to http://www.regulations.gov, including any personal information the commenter provides. DOT's complete Privacy Act Statement can be found in the Federal Register published on April 11, 2000 (65 FR 19477-19478), as well as at http://DocketsInfo.dot.gov.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: Mr. Elliott Black, Director, Office of Airport Planning and Programming, Federal Aviation Administration, 800 Independence Ave. SW., Washington, DC 20591. Telephone (202) 267-8775. Email Address: Elliott.Black@faa.gov.

SUPPLEMENTARY INFORMATION:

History

A Notice published in the Federal Register (81 FR 72145, October 19, 2016), entitled “Applicability of National Environmental Policy Act (NEPA) to Federal Aviation Administration (FAA) Review of Airport Wildlife Hazard Management Plans” requested clarification of Wildlife Hazard Management Plan (WHMP) Program and Policy Guidance Letter 92 issued in 2006. The clarification concerns how federal environmental laws apply to FAA approval of a new or updated WHMP.

The notice requested that interested parties submit written comments by November 18, 2016. On November 18, 2016, an airport industry association requested an extension to the comment period. After careful consideration, the FAA has decided to extend the comment period until January 17, 2017.

Issued in Washington, DC, on November 23, 2016.
Elliott Black,
Director, Office of Airport Planning and Programming.

[FR Doc. 2016-28887 Filed 11-30-16; 8:45 am]

BILLING CODE 4910-13-P